DEPARTMENT OF THE INTERIOR

Bureau of Land Management

[19X.LLAKA02000.L16100000.DS0000.LXSS043L0000.241A]

Notice of Availability of the Final Environmental Impact Statement for the Haines Amendment to the Ring of Fire Resource Management Plan

AGENCY: Bureau of Land Management, Interior.

ACTION: Notice of availability.

SUMMARY: In accordance with the National Environmental Policy Act of 1969 as amended, and the Federal Land Policy and Management Act of 1976 as amended, the Bureau of Land Management (BLM), Glennallen Field Office, Glennallen, Alaska, has prepared the Final Environmental Impact Statement (EIS) for the Haines Amendment to the Ring of Fire Resource Management Plan (RMP) for the BLM-managed public lands in the Haines area of Alaska and, by this notice, is announcing its availability.

DATES: Planning regulations state that any person who meets the conditions as described in the regulations at 43 CFR 1610.5-2 may protest the BLM's Final EIS/Proposed Haines Amendment to the Ring of Fire RMP. A person who meets the conditions and files a protest must file the protest within 30 days of the date that the Environmental Protection Agency publishes its Notice of Availability in the Federal Register.

ADDRESSES: Copies or notification of the electronic availability of the Final EIS/Proposed Haines Amendment to the Ring of Fire RMP are being sent to affected Federal, State, Tribal, and local government agencies and other stakeholders. Copies of the Final EIS/Proposed RMP are available for public inspection at BLM Glennallen Field Office, Milepost 186.5 Glenn Highway, Glennallen, AK 99588; BLM Alaska Public Information Center, Federal Building, 222 West 7th Avenue, Anchorage, AK 99513; Haines Borough Public Library, 111 3rd Ave., Haines, AK 99827; Municipality of Skagway Borough, 700 Spring Street, Skagway, AK 99840; BLM Anchorage District Office, 4700 BLM Road, Anchorage, AK 99507; and Alaska Resources Library and Information Services, 3211 Providence Drive, Suite 111, Anchorage, AK 99507. A link to the BLM's ePlanning page with the Final EIS/Proposed RMP can be found at www.blm.gov/alaska/rof-haines-amendment. All protests must be in writing and mailed to one of the following addresses:

Regular Mail: BLM Director (210), Attention: Protest Coordinator, P.O. Box 71383, Washington, DC 20024-1383.

Overnight Delivery: BLM Director (210) Attention: Protest Coordinator, 20 M Street SE, Room 2134LM, Washington, DC.

FOR FURTHER INFORMATION CONTACT: Bruce Loranger, BLM Anchorage District Office, telephone: 907-267-1221, email: bloranger@blm.gov. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Haines Planning Area encompasses approximately 920,000 acres in Southeast Alaska, bounded by the Canadian Border to the north and west, Glacier Bay National Park to the southwest, and the Tongass National Forest to the south and east. This Planning Area consists mainly of steep and remote mountainous terrain, with bedrock and glaciers that restrict road and trail access. Of the total acreage within the Planning Area, the BLM manages approximately 316,000 acres. The size of the Planning Area has changed since the 2008 signing of the Ring of Fire RMP Record of Decision (ROD) due to the conveyance of several sections of BLM-managed lands to the State of Alaska. The purpose of this planning effort is to identify which designations, associated management practices, and implementation actions best fulfill the resource and multiple-use needs within the Haines Planning Area. It is also intended to evaluate an Area of Critical Environmental Concern, as required by the Ring of Fire RMP ROD. In addition, this planning effort considered the results of a multi-year, BLM-funded study of goat and bear habitat in the Haines area by the Alaska Department of Fish and Game, completed in 2017. This amendment revises the applicable portions of the Ring of Fire RMP and provides a plan which is consistent with evolving law, regulations, and policy.

The BLM conducted public outreach to inform the public and answer questions regarding the Proposed Haines Amendment to the Ring of Fire RMP/EIS. A Notice of Intent (NOI) to prepare the Draft RMP Amendment/Draft EIS was published in the Federal Register in March 2009. The NOI initiated a 90-day formal scoping period that lasted until June 26, 2009. Public meetings were held during the scoping period in the communities of Haines, Skagway, and Anchorage. In 2018, an additional 60-day public outreach that closed May 30 was offered and public meetings were held in the communities of Haines, Skagway, and Juneau. In addition to both public meetings, BLM consulted with and solicited comments from local, state, and federal governments, special interest groups, and Native American tribes. In May of 2019, the Supplemental Draft EIS for the Haines Amendment to the Ring of Fire Resource Management Plan was published for a 90-day public comment period. An open house was held in Haines on June 20, 2019. Additional consultation and cooperating agency meetings were held in Haines in June 2019. Public involvement is further described in Chapter 5 of the Final EIS.

Instructions for filing a protest regarding the Final EIS/Proposed Haines Amendment to the Ring of Fire RMP may be found in the “Dear Reader” letter and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov.

Before including your phone number, email address, or other personal identifying information in your protest you should be aware that your entire protest—including your personal identifying information—may be made publicly available at any time. While you can ask us in your protest to withhold your personal identifying information from public review, we cannot guarantee that we will be able to do so.

(Authority: 16 U.S.C. 3120(a); 40 CFR 1506.6(b))

Chad B. Padgett,
Acting State Director, Alaska.

[FR Doc. 2019-22250 Filed 10-10-19; 8:45 am]

BILLING CODE 4310-JA-P